DEPARTMENT OF THE INTERIOR

Bureau of Land Management

43 CFR Part 3170

[A2407-014-004-065516; #O2509-014-004-125222]

RIN 1004-AF51

Waste Prevention, Production Subject to Royalties, and Resource Conservation; Extension of Phase-In Requirements

AGENCY: Bureau of Land Management, Interior.

ACTION: Direct final rule; request for comments.

SUMMARY: The Bureau of Land Management (BLM, we) is promulgating this direct final rule (DFR) to amend its regulations to extend the phase-in dates for compliance with regulations related to both measurement-and-sampling requirements for high-pressure flares and the submission of Leak Detection and Repair (LDAR) programs.

DATES: This DFR is effective on February 13, 2026, unless significant adverse comments are received by January 14, 2026. If significant adverse comments are received, notice will be published in the Federal Register before the effective date either withdrawing the rule or issuing a new final rule that responds to any significant adverse comments.

FOR FURTHER INFORMATION CONTACT: John Ajak, Deputy Division Chief, BLM HQ-310 Division of Fluid Minerals, email: jajak@blm.gov; telephone: 505-549-9654; or Amanda Fox, Petroleum Engineer, email: afox@blm.gov; telephone: 907-538-2300.

Individuals in the United States who are deaf, deafblind, hard of hearing, or have a speech disability may dial 711 (TTY, TDD, or TeleBraille) to access telecommunications relay services. Individuals outside the United States should use the relay services offered within their country to make international calls to the point-of-contact in the United States.

For a summary of the final rule, please see the abstract description of the document in Docket Number BLM-2025-0268 on www.regulations.gov.

ADDRESSES: You may submit comments by one of the following methods:

• Federal eRulemaking Portal: https://www.regulations.gov. In the Search box, enter the Docket Number “BLM-2025-0268” and click the “Search” button. Follow the instructions at this website.

• Mail, personal, or messenger delivery: U.S. Department of the Interior, Director (630), Bureau of Land Management, 1849 C St. NW, Room 5646, Washington, DC 20240, Attention: 1004-AF51.

SUPPLEMENTARY INFORMATION: The BLM is responsible for managing over 245 million surface acres of land, primarily located in 12 Western States, and 700 million acres of subsurface mineral estate, located throughout the United States. The BLM maintains a program for leasing these lands for oil and gas development and regulates oil and gas production on Federal leases. While the BLM does not manage the leasing of Indian lands for oil and gas production, it does regulate oil and gas operations on many Indian leases under the Secretary's statutory and Tribal trust responsibilities.

Venting and flaring of natural gas on Federal and Indian lands managed by the BLM, as well as determinations of royalties due on lost gas, are currently governed by 43 CFR subpart 3179 in all States except North Dakota, Montana, Wyoming, Utah and Texas, where the rule has been enjoined by the District Court for the District of North Dakota. See North Dakota v. Interior, 2024 U.S. Dist. LEXIS 164665 (Sep. 12, 2024). The BLM published a final rule on April 10, 2024 (89 FR 25378) that, among other topics, updated the measurement-and sampling requirements for flares, and created Leak Detection and Repair (LDAR) program requirements.

The BLM seeks to delay the following requirements as we are pursuing a separate but related proposed rulemaking in the coming months that could significantly change the timelines for these requirements. This delay will provide operators with relief while the BLM pursues these changes.

The enforcement deadlines being extended are currently as follows:

43 CFR 3179.71(f)—for monthly flaring volumes less than 6,000 Mcf and greater than or equal to 1,050 Mcf. These regulations require operators to have measurement devices and sampling in place for flares with monthly flaring volumes within the noted range by December 10, 2025.

43 CFR 3179.100(d)—submission of statewide LDAR program. This regulation requires operators on Federal or Indian leases to maintain and submit an “administrative statewide LDAR program” for applicable leases to the appropriate BLM state office(s). For leases that were in effect on June 10, 2024, § 3179.100(d) requires operators to submit the required LDAR program to the applicable BLM state office no later than December 10, 2025.

This DFR will extend the deadline to comply with these two requirements to December 10, 2026. Other compliance deadlines for high-pressure flares with monthly flaring volumes greater than or equal to 6,000 Mcf and less than 30,000 Mcf (in effect since June 10, 2025), and flares with monthly flaring volumes greater than 30,000 Mcf (in effect since December 10, 2024) remain in effect and, to the best of the BLM's knowledge, operators are in compliance.

This rule is consistent with broader energy policy goals, as reflected in Executive Order (E.O.) 14154, “Unleashing American Energy,” 90 FR 8353 (Jan. 20, 2025), and E.O. 14156, “Declaring a National Energy Emergency,” 90 FR 8433 (Jan. 20, 2025), which emphasize:

• Reducing regulatory burdens on domestic energy producers;

• Streamlining compliance timelines to avoid unnecessary disruptions to operations; and

• Encouraging capital investment in exploration and production by minimizing near-term financial strain.

This action reflects the Department of the Interior's commitment to regulatory certainty, economic growth, and responsible resource development. It does not alter the requirements of the rule, only the compliance deadlines.

Procedural Matters

Executive Order (E.O.) 12866—Regulatory Planning and Review and E.O. 13563—Improving Regulation and Regulatory Review

E.O. 12866 provides that the Office of Information and Regulatory Affairs (OIRA) in the Office of Management and Budget (OMB) will review all significant rules. OIRA has determined that this rule is not significant.

E.O. 13563 reaffirms the principles of E.O. 12866, while calling for improvements in the Nation's regulatory system to promote predictability, reduce uncertainty, and use the best, most innovative, and least burdensome tools for achieving regulatory ends. E.O. 13563 directs agencies to consider regulatory approaches that reduce burdens and maintain flexibility and freedom of choice for the public where these approaches are relevant, feasible, and consistent with regulatory objectives. E.O. 13563 emphasizes further that agencies must base regulations on the best available science and that the rulemaking process must allow for public participation and an open exchange of ideas. The Department developed this rule in a manner consistent with these requirements.

Regulatory Flexibility Act

The Regulatory Flexibility Act (RFA, 5 U.S.C. 601 through 612) requires an agency to prepare a regulatory flexibility analysis for all rules unless the agency certifies that the rule will not have a significant economic impact on a substantial number of small entities. The RFA applies only to rules for which an agency is required to first publish a proposed rule. See 5 U.S.C. 603(a) and 604(a). As the Department is not required to publish a notice of proposed rulemaking for this DFR, the RFA does not apply.

Congressional Review Act

This rule is not a major rule under the Congressional Review Act, 5 U.S.C. 804(2). Specifically, the DFR: (a) Will not have an annual effect on the economy of $100 million or more; (b) Will not cause a major increase in costs or prices for consumers, individual industries, Federal, State, or local government agencies, or geographic regions; and (c) Will not have significant adverse effects on competition, employment, investment, productivity, innovation, or on the ability of United States-based enterprises to compete with foreign-based enterprises in domestic and export markets.

Unfunded Mandates Reform Act

This rule does not impose an unfunded mandate on State, local, or Tribal governments, or the private sector, of more than $100 million per year. The rule does not have a significant or unique effect on State, local, or Tribal governments, or the private sector. The rule merely extends the deadlines for complying with requirements related to measurement-and-sampling requirements for high-pressure flares and to the submission of LDAR programs. Therefore, a statement containing the information required by the Unfunded Mandates Reform Act (2 U.S.C. 1531 et seq.) is not required.

E.O. 12630—Governmental Actions and Interference With Constitutionally Protected Property Rights

This rule does not result in a taking of private property or otherwise have regulatory takings implications under E.O. 12630. The rule extends the deadlines for complying with requirements related to measurement-and-sampling requirements for high-pressure flares and to the submission of LDAR programs; therefore, the rule will not result in private property being taken for public use without just compensation. A takings implication assessment is therefore not required.

E.O. 13132—Federalism

Under the criteria of section 1 of E.O. 13132, this rule does not have sufficient federalism implications to warrant the preparation of a federalism summary impact statement. This rule will not have substantial direct effects on the States, on the relationship between the national government and the States, or on the distribution of power and responsibilities among the various levels of government. A federalism summary impact statement is not required.

E.O. 12988—Civil Justice Reform

This DFR complies with the requirements of E.O. 12988. Among other things, this rule:

(a) Meets the criteria of section 3(a) requiring that all regulations be reviewed to eliminate errors and ambiguity and be written to minimize litigation;

(b) Meets the criteria of section 3(b)(2) requiring that all regulations be written in clear language and contain clear legal standards.

E.O. 13175—Consultation and Coordination With Indian Tribal Governments

The Department of the Interior strives to strengthen its government-to-government relationship with Indian Tribes through a commitment to consultation with Tribes and recognition of their right to self-governance and Tribal sovereignty. The Department evaluated this DFR under E.O. 13175 and the Department's consultation policies and determined that it has no substantial, direct effects on federally recognized Indian Tribes and that consultation under the Department's Tribal consultation policies is not required. The rule merely revises the Federal regulations to extend the phase-in deadlines for existing gas sampling, measurement, and leak detection provisions.

Paperwork Reduction Act

This rule does not impose any new information collection burdens under the Paperwork Reduction Act. OMB previously approved the information collection activities contained in the existing regulations and assigned OMB control number 1004-0211. This rule does not impose an information collection burden because the Department is not making any changes to the information collection requirements.

National Environmental Policy Act

Neither a detailed statement under the National Environmental Policy Act (NEPA, 42 U.S.C. 4321 et seq.) nor an environmental assessment under 43 CFR 46.300 is required because this rule is covered by a categorical exclusion applicable to regulatory functions “that are of an administrative, financial, legal, technical, or procedural nature.” 43 CFR 46.210(i). In addition, the Department has determined that this rule does not involve any of the extraordinary circumstances listed in 43 CFR 46.215 that would require further analysis under NEPA.

E.O. 13211—Actions Concerning Regulations That Significantly Affect Energy Supply, Distribution, or Use

This DFR is not a significant energy action as defined in E.O. 13211. Therefore, a Statement of Energy Effects is not required.

List of Subjects in 43 CFR Part 3170

Administrative practice and procedure, Flaring, Venting, Combustion, Incorporation by reference, Indians—lands, Mineral royalties, Oil and gas exploration, Oil and gas measurement, Public lands—mineral resources, Reporting and recordkeeping requirements, Royalty-free use.

Leslie Beyer,
Assistant Secretary, Land and Minerals Management.

For the reasons stated in the preamble, the Bureau of Land Management amends 43 CFR part 3170 as follows:

PART 3170—ONSHORE OIL AND GAS PRODUCTION

1. The authority citation for part 3170 continues to read as follows:

Authority: 25 U.S.C. 396d and 2107; 30 U.S.C. 189, 306, 359, and 1751; and 43 U.S.C. 1732(b), 1733, and 1740.

2. Revise § 3179.71(f) to read as follows:

§ 3179.71 Measurement of flared oil-well gas volume.

* * * * *

(f) Appropriate meters must be installed at all high-pressure flares pursuant to paragraph (c) of this section, and gas sampling must be taken from the appropriate location pursuant to paragraphs (d) or (e) of this section according to the following phase-in timeline:

Table 1 to Paragraph (f)—Deadline for Compliance With High-Pressure Flare Measurement, and Gas Sampling Location
Flare flow category | Deadline for measurement compliance for high-pressure flares and gas sampling location
≥30,000 Mcf per month | December 10, 2024.
<30,000 Mcf per month and ≥6,000 Mcf per month | June 10, 2025.
<6,000 Mcf per month and ≥1,050 Mcf per month | December 10, 2026.
<1,050 Mcf per month | Not applicable.

* * * * *

3. Revise § 3179.100(d) to read as follows:

§ 3179.100 Leak detection and repair program.

* * * * *

(d) For leases in effect on June 10, 2024, the operator must submit a statewide LDAR program to the state office no later than December 10, 2026.

* * * * *

[FR Doc. 2025-22820 Filed 12-12-25; 8:45 am]

BILLING CODE 4331-29-P